DEPARTMENT OF THE INTERIOR

National Park Service

[NPS-WASO-NAGPRA-16518; PPWOCRADN0-PCU00RP14.R50000]

Notice of Intent To Repatriate a Cultural Item: U.S. Department of the Interior, Bureau of Indian Affairs, Washington, DC

AGENCY: National Park Service, Interior.

ACTION: Notice.

SUMMARY: The U.S. Department of the Interior, Bureau of Indian Affairs, in consultation with the appropriate Indian tribes or Native Hawaiian organizations, has determined that the cultural item listed in this notice meets the definition of unassociated funerary object. Lineal descendants or representatives of any Indian tribe or Native Hawaiian organization not identified in this notice that wish to claim this cultural item should submit a written request to the U.S. Department of the Interior, Bureau of Indian Affairs. If no additional claimants come forward, transfer of control of the cultural item to the lineal descendants, Indian tribes, or Native Hawaiian organizations stated in this notice may proceed.

DATES: Lineal descendants or representatives of any Indian tribe or Native Hawaiian organization not identified in this notice that wish to claim this cultural item should submit a written request with information in support of the claim to the U.S. Department of the Interior, Bureau of Indian Affairs at the address in this notice by October 29, 2014.

ADDRESSES: Anna Pardo, Museum Program Manager/NAGPRA Coordinator, U.S. Department of the Interior, Bureau of Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3005, of the intent to repatriate a cultural item under the control of the U.S. Department of the Interior, Bureau of Indian Affairs, Washington, DC that meets the definition of unassociated funerary object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

At an unknown date in the 1930s or 1940s, one cultural item was taken from a cemetery in the village of Sikort Chuapo in the Pozo Redondo Valley, Hickiwan District of the Tohono O'odham Nation in Pima County, AZ. The item was donated to the Organ Pipe Cactus National Monument at an unknown date in the 1950s. During a review of the inventory, National Park Service staff became aware that the item was removed from the exterior of park boundaries and control of the item rests with the Bureau of Indian Affairs. The one unassociated funerary object is a stone doll that was removed from a child's grave.

Sikort Chuapo has been an established Tohono O'odham village dating back to the 1870s and likely earlier. It was common practice to place such objects on the graves of both adults and children. Based on catalog record of the object, its geographic origin, and the description of traditional territory of the tribe, these objects are believed to be culturally affiliated with the Tohono O'odham Nation of Arizona.

Determinations Made by the U.S. Department of the Interior, Bureau of Indian Affairs

Officials of the U.S. Department of the Interior, Bureau of Indian Affairs have determined that:

• Pursuant to 25 U.S.C. 3001(3)(B), the one cultural item described above is reasonably believed to have been placed with or near individual human remains at the time of death or later as part of the death rite or ceremony and is believed, by a preponderance of the evidence, to have been removed from a specific burial site of a Native American individual.

• Pursuant to 25 U.S.C. 3001(2), there is a relationship of shared group identity that can be reasonably traced between the unassociated funerary object and Tohono O'odham Nation of Arizona.

Additional Requestors and Disposition

Lineal descendants or representatives of any Indian tribe or Native Hawaiian organization not identified in this notice that wish to claim this cultural item should submit a written request with information in support of the claim to Anna Pardo, Museum Program Manager/NAGPRA Coordinator, U.S. Department of the Interior, Bureau of Indian Affairs, 12220 Sunrise Valley Drive, Room 6084, Reston, VA 20191, telephone (703) 390-6343, email Anna.Pardo@bia.gov, by October 29, 2014. After that date, if no additional claimants have come forward, transfer of control of the unassociated funerary object to Tohono O'odham Nation of Arizona may proceed.

The U.S. Department of the Interior, Bureau of Indian Affairs is responsible for notifying the Tohono O'odham Nation of Arizona that this notice has been published.

Dated: September 12, 2014.
Melanie O'Brien,
Acting Manager, National NAGPRA Program.

[FR Doc. 2014-23082 Filed 9-26-14; 8:45 am]

BILLING CODE 4312-50-P